DEPARTMENT OF LABOR

Employment and Training Administration

[TA-W-39,031]

IER, Inc. Temple, TX; Notice of Termination of Investigation

Pursuant to Section 221 of the Trade Act of 1974, an investigation was initiated on April 16, 2001 in response to a worker petition which was filed on behalf of workers at IER, Inc., Temple, Texas.

An active certification covering the petitioning group of workers is already in effect (TA-W-37,848, as amended). Consequently, further investigation in this case would serve no purpose, and the investigation has been terminated.

Signed in Washington, DC this 18th day of April, 2001.
Linda G. Poole,
Certifying Officer, Division of Trade Adjustment Assistance.

[FR Doc. 01-11100 Filed 5-2-01; 8:45 am]

BILLING CODE 4510-30-M